SMALL BUSINESS ADMINISTRATION

Houston District Office Advisory Committee

AGENCY: U.S. Small Business Administration (SBA).

ACTION: Notice of open Federal advisory committee meeting.

SUMMARY: The SBA is issuing this notice to announce the location, date, time, and agenda for the next meeting of the Houston District Office Advisory committee. The meeting will be open to the public.

DATES: The meeting will be held on October 20, 2011 from approximately 11:30 a.m. to 12:30 p.m. Central Standard Time.

ADDRESSES: The meeting will be held at the Internal Revenue Service (IRS), Conference Room 12th Floor; located at 8701 South Gessner, Houston, TX. 77074.

SUPPLEMENTARY INFORMATION: Pursuant to section 10(a)(2) of the Federal Advisory Committee Act (5 U.S.C., Appendix 2), SBA announces the meeting of the Houston District Office Advisory Committee. The Houston District Office Advisory Committee is tasked with providing advice and recommendations to the District Director, Regional Administrator, and the SBA Administrator.

The purpose of the meeting is to interact and get feedback from the community stakeholders on how we can better serve our community and to create new networking opportunities with the Houston community. The agenda or topics to be discussed will include: Houston District Office, Lenders and SBA Goals for 2011-2012, Small Business Week 2012.

FOR FURTHER INFORMATION CONTACT: The meeting is open to the public; however, advance notice of attendance is requested. Anyone wishing to attend and/or make a presentation to the Houston District Office Advisory Committee must contact Sonia Maldonado, Business Development Specialist by October 13, 2011, by fax or e-mail in order to be placed on the agenda. Sonia Maldonado, Business Development Specialist, SBA; 8701 South Gessner Drive, Suite 1200, Houston, TX 77074, Fax 202-481-5617, or e-mail Sonia.maldonado@sba.gov.

Additionally, if you need accommodations because of a disability or require additional information, please contact Sonia Maldonado.

For more information, please visit our Web site at http://www.sba.gov/tx.

Dated: October 13, 2011.
Dan Jones,
SBA Committee Management Officer.

[FR Doc. 2011-27052 Filed 10-18-11; 8:45 am]

BILLING CODE 8025-01-P